NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 19, 2025. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 16 U.S.C. 2401 et seq.), as amended by the Antarctic Science, Tourism and Conservation Act of 1996 (Pub. L. 104-227), has developed regulations (45 CFR parts 670 to 674) for the establishment of a permit system for various activities in Antarctica related to the designation of certain animals and certain geographic areas as requiring special protection, among other purposes.

Application Details

Permit Application: 2026-010

1. Applicant: Steve Emslie, University of North Carolina, Department of Biology and Marine Biology, Wilmington, NC 28403

Activity for Which Permit is Requested: Take, Harmful Interference, Enter Antarctic Specially Protected Area (ASPA), Import into USA, Export from USA (45 CFR 670). The applicant seeks an Antarctic Conservation Act permit authorizing take and harmful interference associated with research primarily examining ecological responses in diet and foraging behavior of the Adelie penguin (Pygoscelis adeliae) in Antarctica. The applicant proposes to collect up to 150 ancient and modern penguin tissues per year at active and abandoned penguin colonies in the Ross Sea region. Ice-free areas would be surveyed and sampled through excavations 1 m x 1 m in size, of sediment and rock in penguin colonies. Excavations would occur in 5-10 cm levels until bedrock or non-orthogenic sediments are encountered, and bones, feathers, eggshell, and whole carcasses would be salvaged. Excavations would be placed in areas with little or no vegetation when possible and upon completion, excavations will be refilled, and disturbed vegetation replaced. Up to 200 small samples of lichens would also be collected per year in ice-free areas near penguin colonies. The applicant additionally proposes to collect salvaged whole or partial seabird carcasses, up to 10 of each species per year, of native Antarctic birds found dead on beaches, at seabird colonies, at McMurdo and Palmer stations. The applicant also proposes collection of small tissue samples from up to 10 mummified carcasses of southern elephant (Mirounga leonina), crabeater (Lobodon carcinophaga), leopard (Hydrurga leptonyx), and Weddell seals (Leptonychotes weddellii) if they are encountered. The applicant holds a valid National Marine Fisheries Service (NMFS) permit for seal tissue collection. The applicant plans to enter a number of ASPAs detailed below, in addition to other sites in the Ross Sea region.

Location: Ross Sea region. ASPA 104—Sabrina Island, Balleny Islands; ASPA 105—Beaufort Island, McMurdo Sound, Ross Sea; ASPA 106—Cape Hallett, Northern Victoria Land, Ross Sea; ASPA 121—Cape Royds, Ross Island; ASPA 124—Cape Crozier, Ross Island; ASPA 159—Cape Adare, Borchgrevink Coast; ASPA 161—Terra Nova Bay, Ross Sea; ASPA 165—Edmonson Point, Wood Point, Ross Sea; ASPA 178—Inexpressible Island and Seaview Bay, Ross Sea. McMurdo Station, Palmer Station, U.S. Antarctic Program vessels.

Dates of Permitted Activities: 1 January 2026-31 December 2029.

Permit Application: 2026-016

2. Applicant: Gabriel Matthias, University of Alaska, Fairbanks, 201 Railway Ave., Seward, AK 99664

Activity for Which Permit is Requested: Waste Management (45 CFR 671). The applicant seeks an Antarctic Conservation Act permit authorizing waste management activities in association with the operation of research cruises in the Antarctic Peninsula region. The applicant plans to support multidisciplinary research including sea ice, water, and sediment sampling, invertebrate collections using SCUBA, and the use of Remotely Piloted Aircraft Systems (RPAS) for diver safety and site scouting. RPAS would only be flown within visual line of sight and not in proximity to wildlife. Mitigation measures will be used to reduce the risk of RPAS loss, including flotation devices and reflective markings. A small, battery-powered Remotely Operated Vehicle (ROV) would also be used to assess site suitability and to aid in invertebrate collections. The ROV would be tethered, and in the event of malfunction could be retrieved manually using the tether. Additionally, the research cruises will support the deployment of field camps on Seymour Island to conduct geologic rock-coring research. Waste management activities associated with the field camp will be conducted under a separate ACA permit held by Leidos Inc. (ACA 2025-008).

Location: Antarctic Peninsula region.

Dates of Permitted Activities: January 12, 2026-March 25, 2026.

Permit Application: 2026-017

3. Applicant: Lee Ellett, University of California San Diego, Scripps Institution of Oceanography, Nimitz Marine Facility, 297 Rosecrans St., San Diego, CA 92107

Activity for Which Permit is Requested: Waste Management (45 CFR 671). The applicant seeks an Antarctic Conservation Act permit authorizing waste management activities in association with the operation of research cruises in the Antarctic Peninsula region. The applicant plans to support the ongoing Palmer Long-Term Ecological Research (LTER) study. Research activities include a regional scale sampling grid of hydrographic stations, sediment sampling, and deploying physical oceanographic moorings. Releases to the environment of scientific sampling equipment would include three steel mooring anchors, two Argo floats, one Slocum glider, and up to 80 XBT probes. Additionally, avian researchers will be deployed on several islands to conduct seabird censuses. Avian census work will be conducted under a separate, existing ACA permit.

Location: Antarctic Peninsula region.

Dates of Permitted Activities: January 1, 2026-February 27, 2026.

Jean C. Allen,
Office Director, Office of Polar Programs.

[FR Doc. 2025-20322 Filed 11-18-25; 8:45 am]

BILLING CODE 7555-01-P